DEPARTMENT OF STATE

[Public Notice: 9743]

Shipping Coordinating Committee; Notice of Public Meeting

The Shipping Coordinating Committee (SHC) will conduct an open meeting at 9:00 a.m. on November 15, 2016, in Room 7N15-01, of the Douglas A. Munro Coast Guard Headquarters Building at St. Elizabeth's, 2703 Martin Luther King Jr. Avenue SE., Washington, DC 20593. The primary purpose of the meeting is to prepare for the ninety-seventh session of the International Maritime Organization's (IMO) Maritime Safety Committee to be held at the IMO Headquarters, United Kingdom, November 21-25, 2016.

The agenda items to be considered include:

—Adoption of the agenda; report of credentials

—Decisions of other IMO bodies

—Consideration and adoption of amendments to mandatory instruments

—Measures to enhance maritime security

—Goal-based new ship construction standards

—Mandatory instrument and/or provisions addressing safety standards for the carriage of more than 12 industrial personnel on board vessels engaged on international voyages

—Navigation, communications, search and rescue (report of the third session of the Sub-Committee)

—Ship systems and equipment (report of the third session and urgent matters emanating from the third session of the Sub-Committee)

—Implementation of IMO instruments (report of the third session of the Sub-Committee)

—Carriage of cargoes and containers (urgent matters emanating from the third session of the Sub-Committee)

—Implementation of the STCW Convention

—Capacity building for the implementation of new measures

—Formal safety assessment

—Piracy and armed robbery against ships

—Unsafe mixed migration by sea

—Implementation of instruments and related matters

—Relations with other organizations

—Application of the Committee's Guidelines

—Work programme

—Any other business

—Consideration of the report of the Committee on its ninety-sixth session

Members of the public may attend this meeting up to the seating capacity of the room. To facilitate the building security process, and to request reasonable accommodation, those who plan to attend should contact the meeting coordinator, LCDR Tiffany Duffy, by email at tiffany.a.duffy@uscg.mil, by phone at (202) 372-1376, by fax at (202) 372-8382, or in writing at 2703 Martin Luther King Jr. Ave. SE., Stop 7509, Washington, DC 20593-7509 not later than November 8, 2016. Requests made after November 8, 2016 might not be able to be accommodated. Please note that due to security considerations, two valid, government issued photo identifications must be presented to gain entrance to the Coast Guard Headquarters building. It is recommended that attendees arrive to the Headquarters building not later than 30 minutes ahead of the scheduled meeting for the security screening process.

The Headquarters building is accessible by taxi and public transportation. Parking in the vicinity of the building is extremely limited and not guaranteed. Members of the public may participate in the meeting via teleconference by calling 202-475-4000 or 1-855-475-2447, participant code: 887 809 72. Please contact the meeting coordinator if you plan to participate by phone. Additional information regarding this and other SHC public meetings may be found at: www.uscg.mil/imo.

Dated: September 16, 2016.
Jonathan W. Burby,
Executive Secretary, Shipping Coordinating Committee, Department of State.

[FR Doc. 2016-23708 Filed 9-29-16; 8:45 am]

BILLING CODE 4710-09-P